DEPARTMENT OF TRANSPORTATION

Federal Aviation Administration

Notice of Passenger Facility Charge (PFC) Approvals and Disapprovals

AGENCY: Federal Aviation Administration (FAA), DOT.

ACTION: Monthly notice of PFC approvals and disapprovals. In January 2003, there were 15 applications approved. Additionally, 15 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: City of Joplin, Missouri.

Application Number: 02-01-C-00-JLN.

Application Type: Impose and use a PFC.

PFC Level: $4.50.

Total PFC Revenue Approved in This Decision: $889,663.

Earliest Charge Effective Date: April 1, 2003.

Estimated Charge Expiration Date: July 1, 2008.

Class of Air Carriers Not Required to Collect PFC's: None.

Brief Description of Projects Approved for Collection and Use:

Purchase new aircraft rescue and firefighting vehicle.

Purchase and install new runway and taxiway signage.

Site preparation of runway 18/36 extension and parallel taxiway (phase 1).

Site preparation of runway 18/36 extension and parallel taxiway (phase 2).

Pave, mark, and light runway 18 extension.

Partial parallel taxiway and connecting taxiways to runway 18.

Install deer fence.

Purchase medium intensity approach lighting system with runway alignment indicator lights.

Purchase handicap lift.

Install runway 18 navigational aids.

Construct taxiway K.

Construct apron extension.

Construct airport access roadway.

Runway 13/31 safety area improvements.

Airport signage/lighting enhancements.

New passenger terminal building: Environmental assessment.

New passenger terminal building: Phase 1 (design).

Decision Date: January 9, 2003.

FOR FURTHER INFORMATION CONTACT: Lorna Sandridge, Central Region Airports Division, (816) 329-2641.

Public Agency: Monroe County Board of County Commissioners, Key West, Florida.

Application Number: 02-06-C-00-EYW.

Application Type: Impose and use a PFC.

PFC Level: $4.50.

Total PFC Revenue Approved in This Decision: $263,000.

Earliest Charge Effective Date: June 1, 2003.

Estimated Charge Expiration Date: January 1, 2004.

Class of Air Carriers Not Required to Collect PFC's:

Commuters or small certificated air carriers filing Department of Transportation Form 298-C T1 or E1.

Determination: Approved. Based on information submitted in the public agency's application, the FAA has determined that the approved class accounts for less than 1 percent of the total annual enplanements at Key West International Airport.

Brief Description of Projects Approved for Collection and Use:

PFC application and administration.

Master utility plan.

Noise insulation program construction.

Noise insulation program (phase 3) architecture and engineering.

Security.

Runway safety area/runway 9/27 extension feasibility study.

West general aviation apron lighting.

Airfield guidance signs.

Runway 9/27 drainage design and construction.

Part 150 update.

Decision Date: January 10, 2003.

FOR FURTHER INFORMATION CONTACT: Susan Moore, Orlando Airports District Office, (407) 812-6331, extension 20.

Public Agency: Savannah Airport Commission, Savannah, Georgia.

Application Number: 02-05-C-00-SAV.

Application Type: Impose and use of PFC.

PFC Level: $4.50.

Total PFC Revenue Approved in this Decision: $3,015,790.

Earliest Charge Effective Date: July 1, 2012.

Estimated Charge Expiration Date: May 1, 2013.

Class of Air Carriers Not Required to Collect PFC's: Air taxi/commercial operators filing FAA Form 1800-31.

Determination: Approved. Based on information submitted in the public agency's application, the FAA has determined that the approved class accounts for less than 1 percent of the total annual enplanements at Savannah International Airport.

Brief Description of Projects Approved for Collection and Use:

Precision approach path indicators runways 9 and 36.

Interactive training system.

Fingerprint machine.

(Construct taxiway) new ammunition bunker.

Baggage lifts.

PFC administration and implementation.

Purchase and renovate loading bridges.

Flight information display system.

South bag carousel #1.

Design and construct general aviation taxiways.

Decision Date: January 13, 2003.

FOR FURTHER INFORMATION CONTACT: Philip Cannon, Atlanta Airports District Office, (404) 305-7152.

Public Agency: City of Pensacola, Florida.

Application Number: 03-06-U-00-PNS.

Application Type: Use PFC revenue.

PFC Level: $4.50.

Total PFC Revenue to be Used in this Decision: $12,300,000.

Charge Effective Date: June 1, 1999.

Estimated Charge Expiration Date: June 1, 2009.

Class of Air Carriers Not Required to Collect PFC's: No change from previous approval.

Brief Description of Project Approved for Use: Runway 8/26 extension.

Decision Date: January 15, 2003.

FOR FURTHER INFORMATION CONTACT: Bill Farris, Orlando Airports District Office, (407) 812-6331, extension 25.

Public Agency: Port of Bellingham, Bellingham, Washington.

Application Number: 02-06-U-00-BLI.

Application Type: Use PFC revenue.

PFC Level: $4.50.

Total PFC Revenue to be Used in this Decision: $1,200,000.

Charge Effective Date: January 1, 2000.

Estimated Charge Expiration Date: January 1, 2007.

Class of Air Carriers Not Required to Collect PFC's: No change from previous approval.

Brief Description of Project Approved for Use: Terminal rehabilitation and expansion.

Decision Date: January 16, 2003.

FOR FURTHER INFORMATION CONTACT: Suzanne Lee-Pang, Seattle Airports District Office, (425) 227-2654.

Public Agency: St. Joseph County Airport Authority, South Bend, Indiana.

Application Number: 03-03-C-00-SBN.

Application Type: Impose and use a PFC.

PFC Level: $3.00.

Total PFC Revenue Approved in this Decision: $23,898,229.

Earliest Charge Effective Date: June 1, 2003.

Estimated Charge Expiration Date: January 1, 2023.

Class of Air Carriers Not Required to Collect PFC's: Part 135 air taxi operators operating with less than 15 seats.

Determination: Approved. Based on information submitted in the public agency's application, the FAA has determined that the approved class accounts for less than 1 percent of the total annual enplanements at South Bend Regional Airport.

Brief Description of Projects Approved for Collection and Use:

Land acquisition.

Lincolnway West Relocation.

Decision Date: January 21, 2003.

FOR FURTHER INFORMATION CONTACT: Gregory N. Sweeny, Chicago Airports

District Office, (847) 294-7526.

Public Agency: Raleigh-Durham Airport Authority, Raleigh-Durham, North Carolina.

Application Number: 03-01-C-00-RDU

Application Type: Impose and use a PFC.

PFC Level: $3.00.

Total PFC Revenue Approved in this Decision: $69,903,473.

Earliest Charge Effective Date: April 1, 2003.

Estimated Charge Expiration Date: September 1, 2008.

Class of Air Carriers Not Required to Collect PFC's: Non-scheduled/on-demand air carriers.

Determination: Approved. Based on information submitted in the public agency's application, the FAA has determined that the approved class accounts for less than 1 percent of the total annual enplanements at Raleigh-Durham Airport.

Brief Description of Projects Approved for Collection and Use:

Surface movement guidance and control system plan and improvements.

Taxiway J and International Drive bridge.

Runway 5R/23L safety areas extension.

Preparation of PFC application.

Relocate taxiway D/expand terminal C apron.

Brief Description of Project Approved for Collection: Runway 5R/23L safety area extension.

Decision Date: January 22, 2003.

FOR FURTHER INFORMATION CONTACT: Tracie D. Kleine, Atlanta Airports District Office, (404) 305-7148.

Public Agency: Melbourne Airport Authority, Melbourne, Florida.

Application Number: 03-06-C-00-MLB.

Application Type: Impose and use a PFC.

PFC Level: $3.00.

Total PFC Revenue Approved in this Decision: $8,563,500.

Earliest Charge Effective Date: October 1, 2003.

Estimated Charge Expiration Date: June 1, 2018.

Class of Air Carriers Not Required to Collect PFC's: Air taxi/commercial operator.

Determination: Approved. Based on information submitted in the public agency's application, the FAA has determined that the approved class accounts for less than 1 percent of the total annual enplanements at Melbourne International Airport.

Brief Description of Project Approved for Collection and Use: Terminal development.

Decision Date: January 23, 2003.

FOR FURTHER INFORMATION CONTACT: Armando L. Rovira, Orlando Airports District Office, (407) 812-6331, extension 31.

Public Agency: City of Monroe, Louisiana.

Application Number: 03-01-C-00-MLU.

Application Type: Impose and use a PFC.

PFC Level: $4.50.

Total PFC Revenue Approved in this Decision: $1,134,672.

Earliest Charge Effective Date: April 1, 2003.

Estimated Charge Expiration Date: February 1, 2006.

Class of Air Carriers Not Required to Collect PFC's: Air taxi/commercial carriers operating under Part 135 and filing FAA Form 1800-31.

Determination: Approved. Based on information submitted in the public agency's application, the FAA has determined that the approved class accounts for less than 1 percent of the total annual enplanements at Monroe Regional Airport.

Brief Description of Projects Approved for Collection and Use: Aircraft loading equipment improvements. Rehabilitate airfield lighting. PFC application professional fees.

Decision Date: January 23, 2003.

FOR FURTHER INFORMATION CONTACT: G. Thomas Wade, Southwest Region Airports Division, (817) 222-5613.

Public Agency: Imperial County, Imperial, California.

Application Number: 03-01-C-00-IPL.

Application Type: Impose and use a PFC.

PFC Level: $4.50.

Total PFC Revenue Approved in this Decision: $892,781.

Earliest Charge Effective Date: April 1, 2003.

Estimated Charge Expiration Date: April 1, 2012.

Class of Air Carriers Not Required to Collect PFC's: None.

Brief Description of Projects Approved for Collection and Use:

Rehabilitate runway 14/31.

Rehabilitate runway 8/26.

Rehabilitate and construct aprons.

Rehabilitate access road and public parking areas.

Update airport master plan.

Rehabilitate passenger terminal building.

Rehabilitate aircraft rescue and firefighting vehicle.

Acquire airport sweeper.

Acquire Americans with Disabilities Act passenger lift device.

Install gate actuators.

Airport maintenance building.

Airport drainage and erosion protection.

Decision Date: January 24, 2003.

FOR FURTHER INFORMATION CONTACT: Eric Vermeeren, Western Pacific Region Airports Division, (310) 725-3631.

Public Agency: Metropolitan Airports Commission, Minneapolis, Minnesota.

Application Number: 02-06-C-00-MSP.

Application Type: Impose and use a PFC.

PFC Level: $4.50.

Total PFC Revenue Approved in this Decision: $1,161,478,610.

Earliest Charge Effective Date: April 1, 2003.

Estimated Charge Expiration Date: January 1, 2017.

Class of Air Carriers Not Required to Collect PFC's: Air taxi/commercial operators filing FAA Form 1800-31.

Determination: Approved. Based on information submitted in the public agency's application, the FAA has determined that the approved class accounts for less than 1 percent of the total annual enplanements at Minneapolis-St. Paul International Airport.

Brief Description of Projects Approved for Collection and Use at a $3.00 PFC Level:

Airside bituminous construction—2001.

Taxiways A/H reconstruction.

Green/Gold connector bag belt.

Green/Gold connector ticket counter/bag check.

Brief Description of Projects Partially Approved for Collection and Use at a $3.00 PFC Level: Runway 4/22 property acquisition.

Determination: The public agency revised its cost estimate for the project downward after the airline consultation meeting and submission of the PFC application.

Pavement rehabilitation—aprons/taxiways.

Determination: The public agency discovered, after submitting the application, that one element of the proposed project had been included in a previous PFC application and, so, deleted that element.

Brief Description of Projects Approved for Collection and Use at a $4.50 PFC Level:

Runway 12L deicing pad.

Runway 12R deicing pad.

Buildings demolition.

Taxiway B construction.

Runway 17/35 site preparation and utility installation.

Runway 17/35 site demolition on and off airport.

Runway 17/35 runways, taxiways, taxilanes, and connectors.

Runway 17/35 airfield service roads.

Runways 17/35 and 4/22 tunnels.

Taxiways W-Y/Y-3 tunnels.

Tenant lease extinguishment.

Deicing agent processing facility.

Airfield material and equipment storage facilities.

Property acquisition.

Program planning/management costs.

Residential noise insulation.

Green concourse (concourse C) expansion—phase 1.

Green concourse (concourse C) expansion—phase 2.

Green concourse apron expansion.

Green/gold connector.

Green concourse automated people mover.

Humphrey Terminal hydrant fueling system.

Brief Description of Project Approved for Collection at a $4.50 PFC Level: Fire/rescue replacement facility.

Brief Description of Disapproved Projects: Runway 12R/30L temporary extension.

Determination: This project does not meet Airport Improvement Program (AIP) eligibility criteria for temporary construction, paragraph 310(e)(2) of FAA Order 5100.38B, AIP Handbook, (May 31, 2002), because it is not required to maintain uninterrupted operation of the airport.

Miscellaneous airfield construction.

Determination: The project description identifies unspecified small incidental airside projects of a maintenance nature. Maintenance work at primary airports is specifically identified as being not AIP eligible per paragraph 501 of FAA Order 5100.38B, AIP Handbook, (May 31, 2002).

Maintenance facility addition—2000.

Determination: This project does not meet AIP eligibility criteria because it does not involve the storage of eligible equipment or abrasives and chemicals used in the treatment of eligible paved areas per paragraph 547(c) of FAA Order 5100.38B, AIP Handbook (May 31, 2002).

Brief Description of Withdrawn Projects:

Concourse F expansion.

Date of Withdrawal: December 20, 2002. Security fence/gate replacements.

Date of Withdrawal: January 16, 2003.

Decision Date: January 24, 2003.

FOR FURTHER INFORMATION CONTACT: Gordon Nelson, Minneapolis Airports District Office, (612) 713-4358.

Public Agency: Missoula County Airport Authority, Missoula, Montana.

Application Number: 03-04-C-00-MSO.

Application Type: Impose and use a PFC.

PFC Level: $4.50.

Total PFC Revenue Approved in this Decision: $832,464.

Earliest Charge Effective Date: February 1, 2004.

Estimated Charge Expiration Date: April 1, 2006.

Class of Air Carriers Not Required to Collect PFC's: Air taxi/commercial operators filing FAA Form 1800-31.

Determination: Approved. Based on information submitted in the public agency's application, the FAA has determined that the approved class accounts for less than 1 percent of the total annual enplanements at Missoula International Airport.

Brief Description of Project Approved for Collection and Use: Rehabilitate air carrier apron (phase 2).

Decision Date: January 24, 2003.

FOR FURTHER INFORMATION CONTACT: David S. Stelling, Helena Airports District Office, (406) 449-5271.

Public Agency: Port of Pasco, Pasco, Washington.

Application Number: 02-05-C-00-PSC.

Application Type: Impose and use a PFC.

PFC Level: $4.50.

Total PFC Revenue Approved in this Decision: $1,409,000.

Earliest Charge Effective Date: April 1, 2004.

Estimated Charge Expiration Date: February 1, 2006.

Class of Air Carriers Not Required to Collect PFC's: None.

Brief Description of Projects Approved for Collection and Use:

Security enhancement plan.

Terminal building passenger boarding area upgrades.

Security enhancements.

Interactive training systems.

Security fencing.

Decision Date: January 24, 2003.

FOR FURTHER INFORMATION CONTACT: Suzanne Lee-Pang, Seattle Airports District Office, (425) 227-2654.

Public Agency: Central West Virginia Regional Airport Authority, Charleston, West Virginia.

Application Number: 03-08-C-00-CRW.

Application Type: Impose and use a PFC.

PFC Level: $4.50.

Total PFC Revenue Approved in this Decision: $2,834,117.

Earliest Charge Effective Date: April 1, 2003.

Estimated Charge Expiration Date: February 1, 2006.

Classes of Air Carriers Not Required to Collect PFC's:

(1) Part 135 charter operators for hire to the general public; (2) Part 121 charter operators for hire to the general public; (3) non-signatory and non-scheduled air carriers.

Determination: Approved. Based on information submitted in the public agency's application, the FAA has determined that each approved class accounts for less than 1 percent of the total annual enplanements at Yeager Airport.

Brief Description of Projects Approved for Collection and Use:

Runway 5/23 engineering study.

Obstruction removal.

Taxiway B drain repair.

Strengthen taxiways B and B1 and apron.

Acquire snow equipment (rdio/friction meter).

Acquire snow removal equipment (end loader).

Acquire security vehicle.

Rehabilitate airport lighting.

Rehabilitate runway 5/23.

Acquire snow removal equipment (grader).

Construct snow equipment storage building.

Acquire airline baggage lift system.

Conduct wildlife study.

Install apron signs.

Rehabilitate runway 15/33.

Replace lighting regulators.

Repair runway 5/23.

Upgrade runway scan system.

Brief Description of Project Approved for Use: Paging system.

Brief Description of Project Disapproved for Collection: Safety area improvement runway 5 approach.

Determination: In accordance with § 158.25(b)(14)(ii), an application for authority to impose a PFC shall include a description of any alternative uses of the PFC revenue to ensure such revenue will be used only on eligible projects in the event the primary project is not approved for use authority or implemented. No alternative projects were provided in this application.

Decision Date: January 28, 2003.

FOR FURTHER INFORMATION CONTACT: Larry F. Clark, Beckley Airports Field Office, (304) 252-6212.

Public Agency: Gulfport-Biloxi Regional Airport Authority, Gulfport, Mississippi.

Application Number: 03-06-C-00-GPT.

Application Type: Impose and use a PFC.

PFC Level: $4.50.

Total PFC Revenue Approved in this Decision: $14,251,901.

Earliest Charge Effective Date: June 1, 2005.

Estimated Charge Expiration Date: September 1, 2012.

Class of Air Carriers Not Required to Collect PFC'S: None.

Brief Description of Projects Approved for Collection and Use:

Terminal expansion—baggage claim area.

Terminal expansion—baggage screening area.

Terminal expansion—security screening checkpoint.

Terminal expansion—flight information display/baggage information display systems.

Terminal expansion baggage claim phase II and second floor.

Brief Description of Disapproved Project: Airline security reimbursement.

Determination: The project was for costs incurred by the airlines, not the public agency, and, thus, was not AIP or PFC eligible.

Decision Date: January 29, 2003.

FOR FURTHER INFORMATION CONTACT: Patrick D. Vaught, Jackson Airports District Office, (601) 664-9885.

Amendments to PFC Approvals

Amendment No. city, state | Amendment approved date | Original approved net PFC revenue | Amended approved net PFC revenue | Original estimated charge exp. date | Amended estimated charge exp. date
97-01-C-01-BHM, Birmingham, AL | 12/18/02 | $7,657,558 | $7,438,100 | 02/01/00 | 02/01/00
99-02-C-01-BHM, Birmingham, AL | 12/23/02 | 10,736,857 | 9,539,381 | 02/01/01 | 10/01/00
01-14-C-01-CHO, Charlottesville, VA | 01/03/03 | 4,480,518 | 4,609,392 | 01/01/05 | 03/01/06
93-01-C-13-ORD, Chicago, IL | 01/23/03 | 1,228,917,970 | 1,148,517,970 | 02/01/17 | 07/01/16
96-05-C-07-ORD, Chicago, IL | 01/23/03 | 467,714,130 | 467,714,130 | 02/01/17 | 07/01/16
01-12-C-04-ORD, Chicago, IL | 01/23/03 | 972,627,790 | 1,072,879,304 | 07/01/16 | 04/01/17
92-01-C-05-HPN, White Plains, NY | 01/23/03 | 17,932,607 | 17,252,918 | 05/01/04 | 05/01/04
* 00-04-C-01-BUR, Burbank, CA | 01/24/03 | 73,699,087 | 73,699,087 | 08/01/13 | 01/01/08
96-02-C-03-JAX, Jacksonville, FL | 01/24/03 | 18,503,092 | 19,042,209 | 06/01/99 | 06/01/99
97-03-U-01-JAX, Jacksonville, FL | 01/24/03 | NA | NA | 06/01/99 | 06/01/99
99-04-C-01-JAX, Jacksonville, FL | 01/24/03 | 5,010,000 | 5,140,741 | 01/01/00 | 01/01/00
00-05-C-01-JAX, Jacksonville, FL | 01/24/03 | 13,081,065 | 3,814,930 | 02/01/02 | 02/01/02
98-07-I-05-PHL, Philadelphia, PA | 01/24/03 | 986,693,869 | 999,267,790 | 12/01/12 | 02/01/13
99-08-U-04-PHL, Philadelphia, PA | 01/24/03 | NA | NA | 12/01/12 | 02/01/13
99-02-C-01-UNV, State College, PA | 01/24/03 | 1,448,605 | 1,597,102 | 10/01/04 | 10/01/04

(Note: The amendment denoted by an asterisk (*) includes a change to the PFC level charged from $3.00 per enplaned passenger to $4.50 per enplaned passenger. For Burbank, CA, this change is effective on April 1, 2003.

Issued in Washington, DC on February 21, 2003.
Barry Molar,
Manager, Airports Financial Assistance Division.

[FR Doc. 03-4643] Filed 2-26-03; 8:45 am]

BILLING CODE 4910-13-M